DEPARTMENT OF ENERGY

Federal Energy Regulatory Commission

Combined Notice of Filings No. 1

June 04, 2010.

Take notice that the Commission received the following electric corporate filings:

Docket Numbers: EC10-74-000.

Applicants: Milford Power Company, LLC.

Description: Application for Authorization Under Section 203 of the Federal Power Act and Request for Waivers and Expedited Action.

Filed Date: 06/04/2010.

Accession Number: 20100604-5068.

Comment Date: 5 p.m. Eastern Time on Friday, June 25, 2010.

Take notice that the Commission received the following exempt wholesale generator filings:

Docket Numbers: EG10-40-000.

Applicants: Taloga Wind, LLC.

Description: Notice of Self-Certification of EWG Taloga Wind, LLC.

Filed Date: 06/02/2010.

Accession Number: 20100602-5059.

Comment Date: 5 p.m. Eastern Time on Wednesday, June 23, 2010.

Docket Numbers: EG10-41-000.

Applicants: Beacon Power Corporation.

Description: Self-Certification of Exempt Wholesale Generator status of Beacon Power Corporation.

Filed Date: 06/03/2010.

Accession Number: 20100603-5095.

Comment Date: 5 p.m. Eastern Time on Thursday, June 24, 2010.

Take notice that the Commission received the following electric rate filings:

Docket Numbers: ER00-107-005.

Applicants: La Paloma Generating Company, LLC.

Description: La Paloma Generating Company, LLC submits notice of non-material change in status, in compliance.

Filed Date: 06/01/2010.

Accession Number: 20100602-0235.

Comment Date: 5 p.m. Eastern Time on Tuesday, June 22, 2010.

Docket Numbers: ER06-1280-006; ER02-556-013.

Applicants: Hess Corporation, Select Energy New York, Inc.

Description: Notice of Change in Status of Hess Corporation and Select Energy New York, Inc.

Filed Date: 06/03/2010.

Accession Number: 20100603-5089.

Comment Date: 5 p.m. Eastern Time on Thursday, June 24, 2010.

Docket Numbers: ER07-585-003.

Applicants: Niagara Generation, LLC.

Description: Niagara Generation, LLC submits letter requesting the Commission to issue an order classifying Niagara as Category 1 Seller.

Filed Date: 06/01/2010.

Accession Number: 20100603-0201.

Comment Date: 5 p.m. Eastern Time on Tuesday, June 22, 2010.

Docket Numbers: ER09-393-002.

Applicants: West Oaks Energy, LLC.

Description: West Oaks Energy, LLC submits the revised table of assets.

Filed Date: 06/02/2010.

Accession Number: 20100603-0035.

Comment Date: 5 p.m. Eastern Time on Wednesday, June 23, 2010.

Docket Numbers: ER10-64-001

Applicants: CPV Keenan II Renewable Energy Company.

Description: Supplement to Notification of Non-Material Change in Facts of CPV Keenan II Renewable Energy Company, LLC.

Filed Date: 05/19/2010.

Accession Number: 20100519-5059.

Comment Date: 5 p.m. Eastern Time on Wednesday, June 9, 2010.

Docket Numbers: ER10-750-001.

Applicants: ISO New England Inc.

Description: ISO New England Inc et al. submits a compliance filing, which clarifies the provisions in the Forward Capacity Market rule addressing the evaluation of de-list bids.

Filed Date: 06/01/2010.

Accession Number: 20100602-0234.

Comment Date: 5 p.m. Eastern Time on Tuesday, June 22, 2010.

Docket Numbers: ER10-1368-000.

Applicants: Union Electric Company.

Description: Union Electric Company submits tariff filing per 35: UE Reactive Supply and Voltage Control to be effective 6/1/2010.

Filed Date: 06/01/2010.

Accession Number: 20100601-5054.

Comment Date: 5 p.m. Eastern Time on Tuesday, June 22, 2010.

Docket Numbers: ER10-1370-000.

Applicants: New MATEP, Inc.

Description: New MATEP, Inc submits notice of succession to Old MATEP's market based rate authority under FERC Electric Tariff, Second Revised Volume No. 1, effective 6/1/10.

Filed Date: 06/01/2010.

Accession Number: 20100601-0248.

Comment Date: 5 p.m. Eastern Time on Tuesday, June 22, 2010.

Docket Numbers: ER10-1371-000.

Applicants: Bangor Hydro Electric Company.

Description: Bangor Hydro Electric Co submits First Revised Sheet 1601 et al. to FERC Electric Tariff 3- Section II- Open Access Transmission Tariff Schedule 21- BHE of ISO New England to be effective 8/1/10.

Filed Date: 06/01/2010.

Accession Number: 20100601-0247.

Comment Date: 5 p.m. Eastern Time on Tuesday, June 22, 2010.

Docket Numbers: ER10-1377-000.

Applicants: Xcel Energy Services Inc.

Description: Northern States Power Company submits proposed amendments to certain NSPM service agreements that incorporate Rate Schedule Transmission Service Tm-1 to be effective 8/1/10.

Filed Date: 05/28/2010.

Accession Number: 20100602-0238.

Comment Date: 5 p.m. Eastern Time on Friday, June 18, 2010.

Docket Numbers: ER10-1379-000.

Applicants: The Potomac Edison Company.

Description: The Potomac Edison Company submits an Interconnection Agreement with Old Dominion Electric Cooperative dated 6/1/10 designated as Original Service Agreement 2524.

Filed Date: 06/01/2010.

Accession Number: 20100602-0230.

Comment Date: 5 p.m. Eastern Time on Tuesday, June 22, 2010.

Docket Numbers: ER10-1381-000.

Applicants: Monongahela Power Company.

Description: Monongahela Power Company submits an Interconnection Agreement with Old Dominion Electric Cooperative dated 6/1/10 designated as Original Service Agreement 2525 under the FERC Electric Tariff, Sixth Revised Volume 1.

Filed Date: 06/01/2010.

Accession Number: 20100602-0231.

Comment Date: 5 p.m. Eastern Time on Tuesday, June 22, 2010.

Docket Numbers: ER10-1382-000.

Applicants: PJM Interconnection, LLC.

Description: PJM Interconnection, LLC submits an executed interconnection service agreement entered into among PJM.

Filed Date: 06/01/2010.

Accession Number: 20100602-0229.

Comment Date: 5 p.m. Eastern Time on Tuesday, June 22, 2010.

Docket Numbers: ER10-1383-000.

Applicants: Dighton Power, LLC.

Description: Dighton Power, LLC submits its notice of succession.

Filed Date: 06/01/2010.

Accession Number: 20100602-0228.

Comment Date: 5 p.m. Eastern Time on Tuesday, June 22, 2010.

Docket Numbers: ER10-1384-000.

Applicants: ISO New England Inc., New England Power Pool.

Description: ISO New England Inc., et al. (NU Companies) submits Sixth Revised Sheet No. 1 et al. to FERC Electric Tariff No. 3.

Filed Date: 06/01/2010.

Accession Number: 20100602-0237.

Comment Date: 5 p.m. Eastern Time on Tuesday, June 22, 2010.

Docket Numbers: ER10-1385-000.

Applicants: WEC Operating Companies.

Description: Wisconsin Energy Corporation Operating Companies submits Notice of Cancellation of the Joint Tariff for Sales of Ancillary Services.

Filed Date: 06/02/2010.

Accession Number: 20100602-0250.

Comment Date: 5 p.m. Eastern Time on Wednesday, June 23, 2010.

Docket Numbers: ER10-1386-000.

Applicants: Arizona Public Service Company.

Description: Arizona Public Service Company submits revision to the Long-Term Power Transactions Agreement between APS and PacifiCorp designated as FERC Electric Rate Schedule 182.

Filed Date: 06/02/2010.

Accession Number: 20100602-0244.

Comment Date: 5 p.m. Eastern Time on Wednesday, June 23, 2010.

Docket Numbers: ER10-1387-000;

Applicants: Florida Power & Light Company.

Description: Florida Power & Light Company submits Second Revised Sheet No. 174 et al. and Correction to Transmittal Letter Regarding Revisions to Attachment C to Florida Power & Light's Open Access Transmission Tariff

Filed Date: 06/02/2010; 06/03/2010.

Accession Number: 20100602-0243; 20100603-5050.

Comment Date: 5 p.m. Eastern Time on Wednesday, June 23, 2010.

Docket Numbers: ER10-1388-000.

Applicants: Laredo Ridge Wind LLC.

Description: Laredo Ridge Wind, LLC submits order accepting market-based rate tariff for filing and granting waivers and blanket approvals.

Filed Date: 06/02/2010.

Accession Number: 20100603-0205.

Comment Date: 5 p.m. Eastern Time on Wednesday, June 23, 2010.

Docket Numbers: ER10-1389-000.

Applicants: Taloga Wind, LLC.

Description: Taloga Wind, LLC submits a petition for an order accepting market-based rate tariff for filing and granting waivers and blanket approvals.

Filed Date: 06/02/2010.

Accession Number: 20100603-0206.

Comment Date: 5 p.m. Eastern Time on Wednesday, June 23, 2010.

Docket Numbers: ER10-1390-000.

Applicants: Southern California Edison Company.

Description: Southern California Edison Company submits tariff filing per 35.12: RS 55_WAPA_Baseline_060310 to be effective 6/3/2010.

Filed Date: 06/03/2010.

Accession Number: 20100603-5046.

Comment Date: 5 p.m. Eastern Time on Thursday, June 24, 2010.

Docket Numbers: ER10-1391-000.

Applicants: San Diego Gas & Electric Company.

Description: San Diego Gas & Electric Company submits tariff filing per 35: San Diego Gas & Electric Company Wholesale Distribution Access Tariff Volume 6 to be effective 6/2/2010.

Filed Date: 06/03/2010.

Accession Number: 20100603-5059.

Comment Date: 5 p.m. Eastern Time on Thursday, June 24, 2010.

Docket Numbers: ER10-1392-000.

Applicants: Madison Paper Industries.

Description: Madison Paper Industries submits tariff filing per 35: Baseline Filing to be effective 3/1/2009.

Filed Date: 06/03/2010.

Accession Number: 20100603-5090.

Comment Date: 5 p.m. Eastern Time on Thursday, June 24, 2010.

Docket Numbers: ER10-1393-000.

Applicants: Beaver Ridge Wind, LLC.

Description: Beaver Ridge Wind, LLC submits tariff filing per 35: Market Based Rate Authorization to be effective 7/1/2008.

Filed Date: 06/03/2010.

Accession Number: 20100603-5091.

Comment Date: 5 p.m. Eastern Time on Thursday, June 24, 2010.

Docket Numbers: ER10-1394-000.

Applicants: Hannaford Energy LLC.

Description: Hannaford Energy LLC submits tariff filing per 35: Market Rate Baseline to be effective 3/8/2010.

Filed Date: 06/03/2010.

Accession Number: 20100603-5092.

Comment Date: 5 p.m. Eastern Time on Thursday, June 24, 2010.

Docket Numbers: ER10-1395-000.

Applicants: Southern California Edison Company.

Description: Southern California Edison Company submits tariff filing per 35.15: I&TS and IA_Pasadena_Cancellation_060410 to be effective 8/4/2010.

Filed Date: 06/04/2010.

Accession Number: 20100604-5032.

Comment Date: 5 p.m. Eastern Time on Friday, June 25, 2010.

Docket Numbers: ER10-1396-000.

Applicants: Southern California Edison Company.

Description: Southern California Edison Company submits tariff filing per 35.13(a)(2)(iii): IA_Pasadena_N_060410 to be effective 8/5/2010.

Filed Date: 06/04/2010.

Accession Number: 20100604-5049.

Comment Date: 5 p.m. Eastern Time on Friday, June 25, 2010.

Take notice that the Commission received the following land acquisition reports:

Docket Numbers: LA10-1-000.

Applicants: Order 697-C 2010 1st Qtr Site Acquisition.

Description: Niagara Generation, LLC, Quarterly Report.

Filed Date: 06/03/2010.

Accession Number: 20100603-5120.

Comment Date: 5 p.m. Eastern Time on Thursday, June 24, 2010.

Take notice that the Commission received the following open access transmission tariff filings:

Docket Numbers: OA08-25-004.

Applicants: Avista Corporation.

Description: Attachment K Filing of Avista Corporation.

Filed Date: 06/02/2010.

Accession Number: 20100602-5101.

Comment Date: 5 p.m. Eastern Time on Wednesday, June 23, 2010.

Docket Numbers: OA08-59-008.

Applicants: Entergy Services, Inc.

Description: Entergy Operating Companies submits an amended Attachment K to their open-access transmission tariff.

Filed Date: 06/01/2010.

Accession Number: 20100602-0227.

Comment Date: 5 p.m. Eastern Time on Tuesday, June 22, 2010.

Take notice that the Commission received the following qualifying facility filings:

Docket Numbers: QF10-477-000.

Applicants: PowerSecure.

Description: Self-Certification of QF of PowerSecure Inc.

Filed Date: 05/17/2010.

Accession Number: 20100517-5055.

Comment Date: Not Applicable.

Docket Numbers: QF10-485-000.

Applicants: Alabama River Group, Inc.

Description: Alabama River Group, Inc submits Self Certification of Qualifying Facility Status for the Claiborne Mill cogeneration facility for filing.

Filed Date: 05/20/2010.

Accession Number: 20100520-0209.

Comment Date: Not Applicable.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-14090 Filed 6-10-10; 8:45 am]

BILLING CODE 6717-01-P